DEPARTMENT OF HEALTH AND HUMAN SERVICES

National Institutes of Health

Office of the Director; Notice of Meeting

Pursuant to Public Law 92-463, notice is hereby given of a meeting of the Advisory Committee to the Director, NIH.

The entire meeting will be open to the public as indicated below, with attendance limited to space available. Individuals who plan to attend and need special assistance, such as sign language interpretation or other reasonable accommodations, should inform the Contact Person listed below in advance of the meeting. In the interest of security, NIH has instituted stringent procedures for entrance into the building by non-government employees. Persons without a government I.D. will need to show a photo I.D. upon entering the building.

Name of Committee: Advisory Committee to the Director, NIH.

Date: December 6, 2001.

Time: 9:00 a.m.-4:00 p.m.

Agenda: The topics proposed for discussion include but are not limited to: (1) Implementation of the Policy for Use of Human Embryonic Pluripotent Stem Cells; (2) NIH Response to Exceptional Situations; (3) Further Discussion and Decision on Extramural Construction Report; and (4) Presentation on the President's Information Technology Advisory Council (PITAC).

Place: National Institutes of Health, 31 Center Drive, Building 31, Conference Room 10, Bethesda, Maryland 20892.

Contact: Ms. Janice C. Ramsden, Special Assistant to the Acting Director, NIH, National Institutes of Health, Building 1, Room 333, Bethesda, Maryland 20892, jr52h@nih.gov, Telephone: (301) 496-0959.

Dated: November 15, 2001.
LaVerne Stringfield,
Director, Office of Federal Advisory Committee Policy.

[FR Doc. 01-29531 Filed 11-27-01; 8:45 am]

BILLING CODE 4140-01-M